NUCLEAR REGULATORY COMMISSION

[Docket No. 50-271; NRC-2011-0074; License No. DPR-28]

Entergy Nuclear Vermont Yankee, LLC and Entergy Nuclear Operations, Inc.; Notice of Issuance of Director's Decision

Notice is hereby given that the Director, Office of Nuclear Reactor Regulation, has issued a Director's Decision with regard to a petition dated January 14, 2011, Mr. Thomas Saporito, hereinafter referred to as the “petitioner.” The petition concerns the operation of the Vermont Yankee Nuclear Power Station (VY).

The petition requested that the U.S. Nuclear Regulatory Commission (NRC): (1) Issue a confirmatory order requiring the licensee to immediately bring the reactor in question to a cold shutdown mode of operation; (2) issue a civil penalty against the licensee; (3) remove the licensee's employees responsible for this matter from NRC licensed activities for a period of no less than 5 years; and (4) perform an immediate NRC investigation and inspection of VY to ensure that all nuclear safety-related systems are properly operational in accordance with the licensee's technical specification and NRC license.

The petition raises concerns originating from inoperability of main steam safety relief valves (SRVs) due to leakage through the shaft to piston thread seals. This event did potentially affect the ability of the SRVs to perform their manual and Automatic Depressurization System (ADS) function since the combined thread seal leakage and accumulator leakage impacted the ability of the SRVs to satisfy design actuation requirements. Due to the redundancy in ADS design, the availability of the high-pressure core injection system, and the availability of a safety-class backup nitrogen supply, the ability to depressurize the reactor was maintained, and there was no potential adverse impact to public health and safety.

The Petition Review Board (PRB) met on February 2, 2011, and made an initial recommendation to accept the petition, in part, concerning the failure of relief valve because this issue met the criteria for review. The NRC communicated this decision to the petitioner, who requested an opportunity to address the PRB to provide comments to the PRB's initial recommendation and additional information in support of the petition. By teleconference on February 14, 2011, the petitioner provided information to the PRB in support of the request for an immediate shutdown and an immediate NRC investigation and inspection of VY. The PRB confirmed its initial recommendation because the additional information provided on February 14, 2011, did not change the PRB's decision to deny the request for immediate action.

The NRC sent a copy of the proposed Director's Decision to the petitioner and the licensee for comment on July 14, 2011. The staff has not received any comments from the licensee. The petitioner responded with comments on August 1, 2011, which have been addressed in the Director's Decision.

Copies of the petition (Agencywide Documents Access and Management System (ADAMS) Accession No. ML110190233) and the Director's Decision (ADAMS Accession No. ML112240960) are available for inspection at the Commission's Public Document Room (PDR) at One White Flint North, Public File Area O1 F21, 11555 Rockville Pike (first floor), Rockville, Maryland, and electronically in the NRC Library at http://www.nrc.gov/reading-rm/adams.html. NRC Management Directive 8.11, “Review Process for 10 CFR 2.206 Petitions” (ADAMS Accession No. ML041770328), describes the petition review process. Persons who do not have access to ADAMS or who have problems in accessing the documents in ADAMS should contact the NRC PDR reference staff by telephone at 1-800-397-4209 or 301-415-4737, or by e-mail to PDR-Resource@nrc.gov.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

Dated at Rockville, Maryland, this 9th day of September 2011.
For the Nuclear Regulatory Commission.
Eric J. Leeds,
Director, Office of Nuclear Reactor Regulation.

[FR Doc. 2011-23787 Filed 9-15-11; 8:45 am]

BILLING CODE 7590-01-P